DEPARTMENT OF AGRICULTURE

Forest Service

New Information Collection for Special Use Administration

AGENCY: Forest Service, USDA.

ACTION: Notice of intent; request for comments.

SUMMARY: In accordance with the Paperwork Reduction Act of 1995, the Forest Service is seeking comments from all interested individuals and organizations on the new information collection established pursuant to the Cabin User Fee Fairness Act (CUFFA) of 2000.

DATES: Comments must be received in writing on or before February 14, 2006 to be assured of consideration. Comments received after that date will be considered to the extent practicable.

ADDRESSES: Comments concerning this notice should be addressed to: USDA, Forest Service, Attention: Rita Staton, Lands Staff (2720), 1400 Independence Avenue, SW., Stop 1124, Washington, DC 20250-1124 or by facsimile to Rita Staton at 202-205-1604 or by e-mail to: reply_lands_staff@fs.fed.us. Comments may also be submitted by the following instructions at the federal eRulemaking portal at: http://www.regulation.gov. If comments are sent by e-mail or facsimile, the public is requested not to send duplicate comments via mail. Please confine comments to issues pertinent to the proposed information collection, explain the reasons for any recommended changes, and where possible, reference the specific wording being addressed.

All comments, including names and addresses when provided, will be placed in the record and will be available for public inspection and copying. The public may inspect comments received in the Office of the Director, Lands Staff, 4th Floor South, Sidney R. Yates Federal Building, 14th and Independence Avenue, SW., Washington, DC on business days between the hours of 8:30 a.m. and 4 p.m. Those wishing to inspect comments are encouraged to call ahead at (202) 205-1248 to facilitate entry to the building.

FOR FURTHER INFORMATION CONTACT: Rita Staton, Lands Staff, at (202) 205-1390. Individuals who use telecommunication devices for the deaf (TDD) may call the Federal Relay Service (FRS) at 1-800-877-8339, 24 hours a day, every day of the year, including holidays.

SUPPLEMENTARY INFORMATION: Title: Request for New Appraisal and Peer Review Pursuant to the Cabin User Fee Fairness Act of 2000.

OMB Number: 0596-New.

Expiration Date of Approval: N/A.

Type of Request: New.

Abstract: The Cabin User Fee Fairness Act (CUFFA) of 2000 (16 U.S.C. 6201-13) directs the Forest Service to promulgate regulations and adopt policies for assessing a base cabin user fee for recreation residences on National Forest System lands. Section 614 of CUFFA establishes a “transition period”, defines how long the transition period will last, and provides guidelines on how the annual cabin user fees should be assessed and adjusted during the transition period. The transition period is that period of time between the date of the enactment of CUFFA (Oct. 11, 2000) and the date upon which the base cabin user fee for a recreation residence is established as a result of implementing the final regulations and agency directives.

Upon adoption of the final regulations and agency directives, recreation residence permit holders will have 2 years to request that the Forest Service take one of the following actions to establish a new base cabin user fee:

(1) Conduct a new appraisal pursuant to the final regulations and policies (permit holder's request for new appraisal);

(2) Commission a peer review of an existing appraisal report for the typical lot completed after September 30, 1995 (permit holder's request for peer review); or

(3) Establish a new fee based on the market value of the typical lot identified in an existing appraisal report that was completed and approved after September 30, 1995 (permit holder's request to use the value established in the existing appraisal).

A request to act on one of the three options in the 2-year transition period must be submitted in writing to the authorized officer and must be signed by a majority of the recreation residence holders within the group of the recreation residence lots represented by the typical lot to be appraised. There is no specific form or format required for permit holders to use when requesting a new appraisal, a peer review, or that the Forest Service use an existing appraisal. However, the Forest Service is proposing to use standard forms (“Statement from Holders Requesting a New Appraisal” and “Statement from Holders Requesting a Peer Review”) when a new appraisal or peer review is requested, and the base fee of the previous appraisal increases more than $3,000.00 from the annual fee assessed on October 1, 1996, and the new base cabin user fee established by either the new appraisal or the peer review is 90% or more of the fee determined by the previous appraisal (October 1996). Permit holders are required to document that they agree to pay the United States the additional fees, pursuant to the phase-in provisions of CUFFA. The forms would facilitate documenting the request and agreement by the permit holder.

The information request is necessary for the Forest Service to collect the permit holder's request, agreement, and accompanying signatures. Such information is necessary to assist the Forest Service in establishing an accurate base cabin user fee during the transition period prescribed by CUFFA. Failure to collect this information could prevent the Forest Service from complying with the provisions of CUFFA and deny holders the opportunity to exercise one of the three options provided under CUFFA—seek a new appraisal; commission a peer review of the existing appraisal; or accept the existing appraisal during the 2-year transition period.

Estimate of Annual Burden: 30 minutes.

Type of Respondents: Recreation Residence Permit Holders.

Estimated Annual Number of Respondents: 20.

Estimated Annual Number of Responses per Respondent: 1.

Estimated Total Annual Burden on Respondents: 10 hours.

Comment is invited on: (1) Whether this collection of information is necessary for the stated purposes and the proper performance of the functions of the agency, including whether the information will have practical utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Dated: December 9, 2005.
Gloria Manning,
Associate Deputy Chief, National Forest System.

[FR Doc. E5-7457 Filed 12-15-05; 8:45 am]

BILLING CODE 3410-11-P